DEPARTMENT OF LABOR

Employment and Training Administration

[DOL Docket No. ETA-2020-0006]

RIN 1205-AC00

Strengthening Wage Protections for the Temporary and Permanent Employment of Certain Aliens in the United States: Proposed Delay of Effective Date

AGENCY: Employment and Training Administration, Department of Labor.

ACTION: Proposed delay of effective date; request for comments.

SUMMARY: In accordance with the Presidential directive as expressed in the memorandum of January 20, 2021, from the Assistant to the President and Chief of Staff, entitled “Regulatory Freeze Pending Review,” this action proposes, following a 15 day comment period, to further delay until May 14, 2021, the effective date of the rule entitled Strengthening Wage Protections for the Temporary and Permanent Employment of Certain Aliens in the United States, published in the Federal Register on January 14, 2021. The current effective date is March 15, 2021. This proposed delay of 60 days will allow agency officials the opportunity to review any questions of fact, law, or policy the rule may raise.

DATES: The Department invites written comments on the proposed delayed effective date from interested parties. Written comments must be received by (postmarked, sent, or received) by February 16, 2021.

ADDRESSES: You may submit written comments electronically by the following method:

• Federal eRulemaking Portal: http://www.regulations.gov. Follow the instructions on the website for submitting comments.

Instructions. Include the docket number ETA-2020-0006 in your comments. All comments received will be posted without change to http://www.regulations.gov. Please do not include any personally identifiable or confidential business information you do not want publicly disclosed.

FOR FURTHER INFORMATION CONTACT: Brian Pasternak, Administrator, Office of Foreign Labor Certification, Employment and Training Administration, Department of Labor, 200 Constitution Avenue NW, Room N-5311, Washington, DC 20210, telephone: (202) 693-8200 (this is not a toll-free number). Individuals with hearing or speech impairments may access the telephone numbers above via TTY/TDD by calling the toll-free Federal Information Relay Service at 1 (877) 889-5627.

SUPPLEMENTARY INFORMATION:

The Employment and Training Administration (ETA) published a final rule entitled Strengthening Wage Protections for the Temporary and Permanent Employment of Certain Aliens in the United States on January 14, 2021 (86 FR 3608). The Agency bases this action on the Presidential directive as expressed in the memorandum of January 20, 2021, from the Assistant to the President and Chief of Staff, entitled “Regulatory Freeze Pending Review.” The Memorandum directs agencies to consider delaying the effective date for regulations for the purpose of reviewing questions of fact, law, and policy raised therein. Therefore, in accordance with the Memorandum, ETA proposes to delay the effective date for the rule entitled “Strengthening Wage Protections for the Temporary and Permanent Employment of Certain Aliens in the United States” to May 14, 2021. Given the complexity of this regulation, ETA has determined that a 60-day extension of the effective date is necessary to provide adequate time to review this regulation. The proposed extension of the effective date will not affect the compliance dates of the rule.

ETA seeks comment on the proposed delay, including the proposed delay's impact on any legal, factual, or policy issues raised by the underlying rule and whether further review of those issues warrants such a delay. All other comments on the underlying rule will be considered to be outside the scope of this rulemaking. ETA therefore seeks comment by February 16, 2021 on its proposal to extend the effective date by 60 days to May 14, 2021.

Nancy Rooney,
Deputy Assistant Secretary.

[FR Doc. 2021-02090 Filed 1-27-21; 4:15 pm]

BILLING CODE 4510-FP-P